DEPARTMENT OF COMMERCE

International Trade Administration

[C-570-971]

Multilayered Wood Flooring From the People's Republic of China: Preliminary Results of Countervailing Duty Administrative Review and Intent To Rescind the Review in Part; 2013

AGENCY: Enforcement and Compliance, International Trade Administration, Department of Commerce.

SUMMARY: The Department of Commerce (the Department) is conducting an administrative review of the countervailing duty (CVD) order on multilayered wood flooring (wood flooring) from the People's Republic of China (PRC). The period of review (POR) is January 1, 2013, through December 31, 2013. We preliminarily find that the mandatory respondents, Dalian Penghong Floor Products Co., Ltd. (Penghong) and The Lizhong Wood Industry Limited Company of Shanghai (Lizhong) (also known as “Shanghai Lizhong Wood Products Co., Ltd.”), received countervailable subsidies during the POR. Interested parties are invited to comment on these preliminary results.

DATES: Effective Date: January 11, 2016.

FOR FURTHER INFORMATION CONTACT: Mary Kolberg, AD/CVD Operations, Office I, Enforcement and Compliance, International Trade Administration, U.S. Department of Commerce, 14th Street and Constitution Avenue NW., Washington, DC 20230; telephone: (202) 482-1785.

Scope of the Order

Multilayered wood flooring is composed of an assembly of two or more layers or plies of wood veneer(s) ¹ in combination with a core. Imports of the subject merchandise are provided for under the following subheadings of the Harmonized Tariff Schedule of the United States (HTSUS): 4412.31.0520; 4412.31.0540; 4412.31.0560; 4412.31.2510; 4412.31.2520; 4412.31.4040; 4412.31.4050; 4412.31.4060; 4412.31.4070; 4412.31.5125; 4412.31.5135; 4412.31.5155; 4412.31.5165; 4412.31.6000; 4412.31.9100; 4412.32.0520; 4412.32.0540; 4412.32.0560; 4412.32.2510; 4412.32.2520; 4412.32.3125; 4412.32.3135; 4412.32.3155; 4412.32.3165; 4412.32.3175; 4412.32.3185; 4412.32.5600; 4412.39.1000; 4412.39.3000; 4412.39.4011; 4412.39.4012; 4412.39.4019; 4412.39.4031; 4412.39.4032; 4412.39.4039; 4412.39.4051; 4412.39.4052; 4412.39.4059; 4412.39.4061; 4412.39.4062; 4412.39.4069; 4412.39.5010; 4412.39.5030; 4412.39.5050; 4412.94.1030; 4412.94.1050; 4412.94.3105; 4412.94.3111; 4412.94.3121; 4412.94.3131; 4412.94.3141; 4412.94.3160; 4412.94.3171; 4412.94.4100; 4412.94.5100; 4412.94.6000; 4412.94.7000; 4412.94.8000; 4412.94.9000; 4412.94.9500; 4412.99.0600; 4412.99.1020; 4412.99.1030; 4412.99.1040; 4412.99.3110; 4412.99.3120; 4412.99.3130; 4412.99.3140; 4412.99.3150; 4412.99.3160; 4412.99.3170; 4412.99.4100; 4412.99.5100; 4412.99.5710; 4412.99.6000; 4412.99.7000; 4412.99.8000; 4412.99.9000; 4412.99.9500; 4418.71.2000; 4418.71.9000; 4418.72.2000; and 4418.72.9500.

¹ A “veneer” is a thin slice of wood, rotary cut, sliced or sawed from a log, bolt or flitch. Veneer is referred to as a ply when assembled.

While HTSUS subheadings are provided for convenience and customs purposes, the written product description remains dispositive.

A full description of the scope of the order is contained in the memorandum from Christian Marsh, Deputy Assistant Secretary for Antidumping and Countervailing Duty Operations, to Paul Piquado, Assistant Secretary for Enforcement and Compliance, “Decision Memorandum for Preliminary Results of Countervailing Duty Administrative Review: Multilayered Wood Flooring from the People's Republic of China” dated concurrently with this notice (Preliminary Decision Memorandum), which is hereby adopted by this notice.

The Preliminary Decision Memorandum is a public document and is on file electronically via Enforcement and Compliance's Antidumping and Countervailing Duty Centralized Electronic Service System (ACCESS). ACCESS is available to registered users at https://access.trade.gov and in the Central Records Unit, Room B8024 of the main Department building. In addition, a complete version of the Preliminary Decision Memorandum can be accessed directly on the Internet at http://enforcement.trade.gov/frn/index.html. The signed Preliminary Decision Memorandum and the electronic versions of the Preliminary Decision Memorandum are identical in content.

Intent To Rescind Administrative Review, in Part

We received timely filed no-shipment certifications from Zhejiang Shuimojiangnan New Material Technology Co., Ltd. on April 3, 2015, and from Tongxiang Jisheng Import and Export Co., Ltd., Jiangsu Guyu International Trading Co., Ltd., Jiangsu Mingle Flooring Co., Ltd., Shenyang Senwang Wooden Industry Co., Ltd., Changbai Mountain Development and Protection Zone Hongtu Wood Industrial Co, Ltd., and Linyi Bonn Flooring Manufacturing Co., Ltd. on April 6, 2015.² Because there is no evidence on the record to indicate that these companies had entries of subject merchandise during the POR, pursuant to 19 CFR 351.213(d)(3), we intend to rescind the review with respect to these companies. A final decision regarding whether to rescind the review of these companies will be made in the final results of this review.

² See letter from Zhejiang Shuimojiangnan New Material Technology Co., Ltd., “Multilayered Wood Flooring from the People's Republic of China-No Sales Certification,” dated April 3, 2015; see also letter from Tongxiang Jisheng Import and Export Co., Ltd., Jiangsu Guyu International Trading Co., Ltd., Jiangsu Mingle Flooring CO., Ltd., Shenyang Senwang Wooden Industry Co., Ltd., Changbai Mountain Development and Protection Zone Hongtu Wood Industrial Co., Ltd., and Linyi Bonn Flooring Manufacturing Co., Ltd., “Multilayered Wood Flooring from the People's Republic of China: Submission of No Shipment Certifications,” dated April 6, 2015.

Methodology

We are conducting this review in accordance with section 751(a)(1)(A) of the Tariff Act of 1930, as amended (the Act). For each of the subsidy programs found to be countervailable, we preliminarily find that there is a subsidy, i.e., a government-provided financial contribution that gives rise to a benefit to the recipient, and that the subsidy is specific.³ For a full description of the methodology underlying our conclusions, see Preliminary Decision Memorandum.

³ See sections 771(5)(B) and (D) of the Act regarding financial contribution; section 771(5)(E) of the Act regarding benefit; and, section 771(5A) of the Act regarding specificity.

Preliminary Results of the Review

In accordance with 19 CFR 351.221(b)(4)(i), we calculated a countervailable subsidy rate for each of the mandatory respondents, Penghong and Lizhong.

For the non-selected respondents, we have followed the Department's practice, which is to base the subsidy rates on an average of the subsidy rates calculated for those companies selected for individual review, excluding de minimis rates or rates based entirely on adverse facts available.⁴ In this case, we have preliminarily assigned to the non-selected respondents the simple average of the rates calculated for Penghong and Lizhong due to inconsistent units of measure in the publicly ranged quantity and value data provided by Penghong and Lizhong.

⁴ See, e.g., Certain Pasta From Italy: Preliminary Results of the 13th (2008) Countervailing Duty Administrative Review, 75 FR 18806, 18811 (April 13, 2010), unchanged in Certain Pasta from Italy: Final Results of the 13th (2008) Countervailing Duty Administrative Review, 75 FR 37386 (June 29, 2010).

We preliminarily find the countervailable subsidy rates for the producers/exporters under review to be as follows: ⁵

⁵ The Department published a Correction of Notice of Initiation, 80 FR 11166 (March 2, 2015) and removed Zhejiang Layo Wood Industry Co. Ltd(“Layo Wood”) because this company was excluded from the countervailing duty order in the investigation.

Producer/Exporter | Net subsidy rate (percent)
Dalian Penghong Floor Products Co., Ltd. (Penghong) | 1.97
Shanghai Lizhong Wood Products Co., Ltd. (aka The Lizhong Wood Industry Limited Company of Shanghai); Linyi Youyou Wood Co., Ltd | 0.89
A&W (Shanghai) Woods Co., Ltd | 1.43
Anhui Longhua Bamboo Product Co., Ltd | 1.43
Armstrong Wood Products (Kunshan) Co., Ltd | 1.43
Baishan Huafeng Wood Product Co., Ltd | 1.43
Baiying Furniture Manufacturer Co., Ltd | 1.43
Baroque Timber Industries (Zhongshan) Co., Ltd | 1.43
Benxi Wood Company | 1.43
Changbai Mountain Development and Protection Zone Hongtu Wood Industrial Co., Ltd | 1.43
Changzhou Hawd Flooring Co., Ltd | 1.43
Cheng Hang Wood Co., Ltd | 1.43
Chinafloors Timber (China) Co., Ltd | 1.43
Dalian Dajen Wood Co., Ltd | 1.43
Dalian Huade Wood Product Co., Ltd | 1.43
Dalian Huilong Wooden Products Co., Ltd | 1.43
Dalian Jiuyuan Wood Industry Co., Ltd | 1.43
Dalian Kemian Wood Industry Co., Ltd | 1.43
Dalian Shumaike Floor Manufacturing Co., Ltd | 1.43
Dalian Xinjinghua Wood Co., Ltd | 1.43
Dasso Industrial Group Co., Ltd | 1.43
Dazhuang Floor Co. (dba Dasso Industrial Group Co., Ltd.) | 1.43
Dongtai Fuan Universal Dynamics LLC | 1.43
Dun Hua City Jisen Wood Industry Co., Ltd | 1.43
Dun Hua Sen Tai Wood Co., Ltd | 1.43
Dunhua City Dexin Wood Industry Co., Ltd | 1.43
Dunhua City Hongyuan Wood Industry Co., Ltd | 1.43
Dunhua City Wanrong Wood Industry Co., Ltd | 1.43
Dunhua Jisheng Wood Industry Co., Ltd | 1.43
Dunhua Shengda Wood Industry Co., Ltd | 1.43
Era Solar Co., Ltd | 1.43
Fine Furniture (Shanghai) Limited | 1.43
Fu Lik Timber (HK) Co., Ltd | 1.43
Fusong Jinlong Wooden Group Co., Ltd | 1.43
Fusong Qianqiu Wooden Product Co., Ltd | 1.43
GTP International Ltd | 1.43
Guangdong Fu Lin Timber Technology Limited | 1.43
Guangdong Yihua Timber Industry Co., Ltd | 1.43
Guangzhou Homebon Timber Manufacturing Co., Ltd | 1.43
Guangzhou Panyu Kangda Board Co., Ltd | 1.43
Guangzhou Panyu Shatou Trading Co., Ltd | 1.43
Guangzhou Panyu Southern Star Co., Ltd | 1.43
HaiLin LinJing Wooden Products, Ltd | 1.43
HaiLin XinCheng Wooden Products, Ltd | 1.43
Hangzhou Dazhuang Floor Co., Ltd. (dba Dasso Industrial Group Co., Ltd.) | 1.43
Hangzhou Hanje Tec Co., Ltd | 1.43
Hangzhou Zhengtian Industrial Co., Ltd | 1.43
Henan Xingwangjia Technology Co., Ltd | 1.43
Hunchun Forest Wolf Wooden Industry Co., Ltd | 1.43
Hunchun Xingjia Wooden Flooring Inc | 1.43
Huzhou Chenghang Wood Co., Ltd | 1.43
Huzhou Fulinmen Imp. & Exp. Co., Ltd | 1.43
Huzhou Fuma Wood Co., Ltd | 1.43
Huzhou Jesonwood Co., Ltd | 1.43
Huzhou Ruifeng Imp. & Exp. Co., Ltd | 1.43
Huzhou Sunergy World Trade Co., Ltd | 1.43
Jiafeng Wood (Suzhou) Co., Ltd | 1.43
Jiangsu Guyu International Trading Co., Ltd | 1.43
Jiangsu Mingle Flooring Co., Ltd | 1.43
Jiangsu Senmao Bamboo and Wood Industry Co., Ltd | 1.43
Jiangsu Simba Flooring Co., Ltd | 1.43
Jiangsu Yuhui International Trade Co., Ltd | 1.43
Jiashan HuiJiaLe Decoration Material Co., Ltd | 1.43
Jiaxing Hengtong Wood Co., Ltd | 1.43
Jilin Forest Industry Jinqiao Flooring Group Co., Ltd | 1.43
Jilin Xinyuan Wooden Industry Co., Ltd | 1.43
Karly Wood Product Limited | 1.43
Kemian Wood Industry (Kunshan) Co., Ltd | 1.43
Linyi Anying Wood Co., Ltd | 1.43
Linyi Bonn Flooring Manufacturing Co., Ltd | 1.43
Mudanjiang Bosen Wood Industry Co., Ltd | 1.43
Nakahiro Jyou Sei Furniture (Dalian) Co., Ltd | 1.43
Nanjing Minglin Wooden Industry Co., Ltd | 1.43
Ningbo Qixin Solar Electrical Appliance Co., Ltd | 1.43
Ningbo Tianyi Bamboo & Wood Products Co., Ltd | 1.43
Pinge Timber Manufacturing (Zhejiang) Co., Ltd | 1.43
Power Dekor Group Co., Ltd | 1.43
Puli Trading Limited | 1.43
Qingdao Barry Flooring Co., Ltd | 1.43
Riverside Plywood Corporation | 1.43
Samling Riverside Co., Ltd | 1.43
Shanghai Anxin (Weiguang) Timber Co., Ltd | 1.43
Shanghai Eswell Timber Co., Ltd | 1.43
Shanghai Lairunde Wood Co., Ltd | 1.43
Shanghai New Sihe Wood Co., Ltd | 1.43
Shanghai Shenlin Corporation | 1.43
Shenyang Haobainian Wooden Co., Ltd | 1.43
Shenyang Senwang Wooden Industry Co., Ltd | 1.43
Shenzhenshi Huanwei Woods Co., Ltd | 1.43
Sino-Maple (JiangSu) Co., Ltd | 1.43
Suzhou Anxin Weiguang Timber Co., Ltd | 1.43
Suzhou Dongda Wood Co., Ltd ⁶ | 1.43
Tongxiang Jisheng Import and Export Co., Ltd | 1.43
Vicwood Industry (Suzhou) Co. Ltd | 1.43
Xiamen Yung De Ornament Co., Ltd | 1.43
Xuzhou Antop International Trade Co., Ltd | 1.43
Xuzhou Shenghe Wood Co., Ltd | 1.43
Yekalon Industry, Inc | 1.43
Yingyi-Nature (Kunshan) Wood Industry Co., Ltd | 1.43
Yixing Lion-King Timber Industry Co., Ltd | 1.43
Zhejiang Anji Xinfeng Bamboo and Wood Co., Ltd | 1.43
Zhejiang Biyork Wood Co., Ltd | 1.43
Zhejiang Dadongwu Green Home Wood Co., Ltd | 1.43
Zhejiang Desheng Wood Industry Co., Ltd | 1.43
Zhejiang Fudeli Timber Industry Co., Ltd | 1.43
Zhejiang Fuerjia Wooden Co., Ltd | 1.43
Zhejiang Fuma Warm Technology Co., Ltd | 1.43
Zhejiang Haoyun Wooden Co., Ltd | 1.43
Zhejiang Jeson Wood Co., Ltd | 1.43
Zhejiang Longsen Lumbering Co., Ltd | 1.43
Zhejiang Shiyou Timber Co., Ltd | 1.43
Zhejiang Shuimojiangnan | 1.43
Zhejiang Tianzhen Bamboo & Wood Development Co., Ltd | 1.43

Disclosure and Public Comment

We will disclose to parties in this proceeding the calculations performed in reaching the preliminary results within five days of publication of these preliminary results.⁷ Interested parties may submit written comments (case briefs) on the preliminary results no later than 30 days from the date of publication of this Federal Register notice, and rebuttal comments (rebuttal briefs) within five days after the time limit for filing case briefs.⁸ Pursuant to 19 CFR 351.309(d)(2), rebuttal briefs must be limited to issues raised in the case briefs. Parties who submit arguments are requested to submit with the argument: (1) A statement of the issue; (2) a brief summary of the argument; and (3) a table of authorities.

⁶ See Multilayered Wood Flooring from the People's Republic of China: Final Results and Partial Rescission of Countervailing Duty Administrative Review: 2012 (80 FR 41007, July 14, 2015) and accompanying Issues and Decision Memorandum at 23-24. We have omitted Anhui Suzhou Dongda Wood Co., Ltd. and Yixing Lion-King Timber Industry from the notice because we have now included the correct spelling of these companies. Zhejiang Shuimojiangnan is also known as Zhejiang Shuimojiangnan New Material Technology Co., Ltd. Dongtai Fuan Universal Dynamics LLC and Zhejiang Longsen Lumbering Co., Ltd. were listed twice in the Initiation Notice.

⁷ See 19 CFR 351.224(b).

⁸ See 19 CFR 351.309(c)(1)(ii) and 351.309(d)(1).

Interested parties who wish to request a hearing, or to participate if one is requested, must submit a written request to the Assistant Secretary for Enforcement and Compliance, within 30 days after the date of publication of this notice.⁹ Requests should contain the party's name, address, and telephone number, the number of participants, and a list of the issues to be discussed. If the Department receives a request for a hearing, we will inform parties of the scheduled date for the hearing which will be held at the U.S. Department of Commerce, 14th Street and Constitution Avenue NW., Washington, DC 20230, at a time and location to be determined.¹⁰ Parties should confirm by telephone the date, time, and location of the hearing.

⁹ See 19 CFR 351.310(c).

¹⁰ See 19 CFR 351.310.

Parties are reminded that briefs and hearing requests are to be filed electronically using ACCESS and that electronically filed documents must be received successfully in their entirety by 5 p.m. Eastern Time on the due date.

Unless the deadline is extended pursuant to section 751(a)(3)(A) of the Act, we intend to issue the final results of this administrative review, including the results of our analysis of the issues raised by the parties in their comments, within 120 days after publication of these preliminary results.

Assessment Rates

Consistent with section 751(a)(1) of the Act, upon issuance of the final results, the Department shall determine, and U.S. Customs and Border Protection (CBP) shall assess, countervailing duties on all appropriate entries covered by this review. We intend to issue instructions to CBP 15 days after publication of the final results of this review.

Cash Deposit Requirements

Also in accordance with section 751(a)(1) of the Act, the Department intends to instruct CBP to collect cash deposits of estimated countervailing duties in the amounts shown above for each of the respective companies listed above. For all non-reviewed firms, we will instruct CBP to continue to collect cash deposits at the most recent company specific or all-others rate applicable to the company. These cash deposit requirements, when imposed, shall remain in effect until further notice.

This administrative review and notice are in accordance with sections 751(a)(1) and 777(i) of the Act and 19 CFR 351.213.

Dated: December 31, 2015.
Paul Piquado,
Assistant Secretary for Enforcement and Compliance.

Appendix—List of Topics Discussed in the Preliminary Decision Memorandum

1. Summary

2. Background

3. Scope of the Order

4. Intent to Rescind, in Part, the Administrative Review

5. Subsidies Valuation Information

6. Analysis of Programs

7. Recommendation

[FR Doc. 2016-00356 Filed 1-8-16; 8:45 am]

BILLING CODE 3510-DS-P